DEPARTMENT OF THE INTERIOR

National Park Service

Colorado River Management Plan, Final Environmental Impact Statement, Grand Canyon National Park, AZ

AGENCY: National Park Service, Department of the Interior.

ACTION: Notice of availability of a Record of Decision on the Final Environmental Impact Statement for the Colorado River Management Plan, Grand Canyon National Park.

SUMMARY: Pursuant to subsection 102(2)(C) of the National Environmental Policy Act of 1969, codified as amended at 42 U.S.C. 4332(2)(C), the National Park Service (NPS) announces the availability of the Record of Decision for the Colorado River Management Plan, Grand Canyon National Park, Arizona. On February 17, 2006, the Director, Intermountain Region approved the Record of Decision for the project. As soon as practicable, the NPS will begin to implement the two Preferred Alternatives contained in the Final Environmental Impact Statement issued on November 10, 2005. For the Lees Ferry to Diamond Creek section of the Colorado River, the NPS has selected the preferred alternative, modified Alternative H, which will allow 5.5 months mixed motor/nonmotor use and 6.5 months nonmotorized use; reduce the maximum group size for commercial groups; establish use patterns based on daily, weekly and seasonal launch limits; and increase noncommercial use primarily in the shoulder and winter months. This alternative will allow for a moderate increase in estimated yearly passenger totals and allow passenger exchanges at Whitmore to accommodate commercial trips launching during the mixed-use seasons. Noncommercial permits will be awarded through a “hybrid” weighted lottery system for applicants applying for Lees Ferry to Diamond Creek river trips after boaters transition from the waitlist. This course of action and 7 other alternatives were analyzed in the Draft and Final Environmental Impact Statements for the Lees Ferry to Diamond Creek section of the Colorado River. The full range of foreseeable environmental consequences was assessed, and appropriate mitigating measures were identified.

For the Lower Gorge of the Colorado River, the NPS has selected modified Alternative 4, which reflects an agreement reached between Grand Canyon National Park and the Hualapai Tribe, achieved through extensive consultation, on most issues relating to the elements of use, specifically for trips launching at or continuing past Diamond Creek. This alternative will allow overall HRR operations to increase, while reducing group size, limiting day trips in the non-peak season, and limiting overnight trips throughout the year. However, agreement could not be reached after extensive consultation and incorporation of Hualapai tribal concerns, on the level of pontoon boat operations and upstream travel from Lake Mead. This selected modified Alternative 4, incorporates the NPS's preference for lower levels of pontoon boat use in the Quartermaster area compared to levels proposed by the Hualapai Tribe. Pontoon operations, under this alternative, will continue to be allowed, with five boats operating at one time in the Quartermaster area and with a maximum daily capacity of 480 passengers, which could increase to 600 passengers per day based on favorable performance reviews of concession operations and resource monitoring data. Upriver, motorized trip takeouts will be allowed with a maximum of four trips per day during the peak season and one per day during the non-peak season; however, no jetboat tours will be allowed to operate. This course of action and 4 other alternatives were analyzed in the Draft and Final Environmental Impact Statements for the Lower Gorge of the Colorado River. The full range of foreseeable environmental consequences was assessed, and appropriate mitigating measures were identified.

The Record of Decision includes a statement of the decision made, synopses of other alternatives considered, the basis for the decision, a description of the environmentally preferable alternatives, a finding on impairment of park resources and values, a listing of measures to minimize environmental harm, an overview of public involvement in the decision-making process, and a Statement of Findings.

FOR FURTHER INFORMATION CONTACT: Mary Killeen, Chief of Planning and Compliance Office, Grand Canyon National Park, 928-638-7885.

SUPPLEMENTARY INFORMATION: Copies of the Record of Decision may be obtained from the contact listed above or online at http://www.nps.gov/grca/crmp.

Dated: February 17, 2006.
Steve Martin,
Deputy Director, National Park Service.

[FR Doc. 06-2761 Filed 3-22-06; 8:45 am]

BILLING CODE 4312-ED-P